DEPARTMENT OF THE INTERIOR

National Park Service

[NPS-WASO-CR-NPS0032650; PPWOCRADI0, PCU00RP15.R50000, 212P104215 (211); OMB Control Number 1024-0018]

Agency Information Collection Activities; Submission to the Office of Management and Budget for Review and Approval; Nomination of Properties for Listing in the National Register of Historic Places

AGENCY: National Park Service, Interior.

ACTION: Notice of information collection; request for comment.

SUMMARY: In accordance with the Paperwork Reduction Act of 1995, we, the National Park Service are proposing to renew an information collection with revisions.

DATES: Interested persons are invited to submit comments on or before February 22, 2022.

ADDRESSES: Written comments and suggestions on the information collection request (ICR) should be submitted by the date specified above in DATES to http://www.reginfo.gov/public/do/PRAMain. Find this particular information collection by selecting “Currently under Review—Open for Public Comments” or by using the search function. Please provide a copy of your comments to the NPS Information Collection Clearance Officer (ADIR-ICCO), 12201 Sunrise Valley Drive, (MS-242) Reston, VA 20191 (mail); or phadrea_ponds@nps.gov (email). Please include “1024-0018” in the subject line of your comments.

FOR FURTHER INFORMATION CONTACT: To request additional information about this ICR, contact Alexis Abernathy, National Register of Historic Places, by email at alexis_abernathy@nps.gov, or by telephone at 202 354-2236. Individuals who are hearing or speech impaired may call the Federal Relay Service at 1-800-877-8339 for TTY assistance. You may also view the ICR at http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on June 8, 2021 (86 FR 30478). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The National Register of Historic Places (NRHP) is the official Federal list of districts, sites, buildings, structures, and objects significant in American history, architecture, archeology, engineering, and culture. National Register properties have significance to the history of communities, States, or the Nation. The National Historic Preservation Act of 1966 requires the Secretary of the Interior to maintain and expand the National Register, and to establish criteria and guidelines for including properties on the National Register. National Register properties must be considered in the planning for Federal or federally assisted projects and listing in the National Register is required for eligibility for Federal rehabilitation tax incentives.

The information collection requiring OMB approval is the requirement for property owners to submit notarized letters to the SHPO objecting to the property being listed in the National Register.

Title of Collection: Nomination of Properties for Listing in the National Register of Historic Places.

OMB Control Number: 1024-0018.

Form Number: 10-900, 10-900-a, and 10-900-b.

Type of Review: Revision of a currently approved collection.

Respondents/Affected Public: Individuals, Private Sector, and Government.

Total Estimated Number of Annual Respondents: 2,614.

Total Estimated Number of Annual Burden Hours: 226,722.

Respondent's Obligation: Required to obtain or retain a benefit.

Frequency of Collection: On occasion.

Total Estimated Annual Nonhour Burden Cost: None.

An agency may not conduct, or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2022-01186 Filed 1-20-22; 8:45 am]

BILLING CODE 4312-52-P